DEPARTMENT OF TRANSPORTATION

Federal Railroad Administration

[Docket No. FRA-2010-0162]

Petition for Waiver of Compliance

In accordance with part 211 of title 49 of the Code of Federal Regulations (CFR), this document provides the public notice that by a document dated October 15, 2010, the Union Pacific Railroad Company (UP), has petitioned the Federal Railroad Administration (FRA) for a waiver of compliance from certain provisions of the Federal railroad safety regulations contained at Title 49 Code of Federal Regulations (CFR) part 231 (Safety Appliance Standards). FRA assigned the petition Docket Number FRA-2010-0162.

Specifically § 231.24(b)(3) End platforms (3) Location. One (1) on each end of car not more than eight (8) inches above center sill. UP requests relief on cars where the dimensional requirements of eight inches above the center sill are not in compliance and contend all other measurements are in compliance within Plate “U” of Appendix D of the Motive Power and Equipment Compliance Manual.

UP stated twenty-one different car owners are affected by this requirement with the potential of exceeding 18,000 cars that are involved to correct the problem for cars constructed in 49 CFR 231.24. UP contends that in order to correct the problem, many cars require extensive modifications which are time consuming and labor intensive. Additionally, UP stated that private car owners are concerned with service delays associated with the necessary car modifications and repairs. In addition, UP believes its review of safety and personal injury records indicated no underlying safety issues that would prevent the requested provided relief.

UP states that other dimensional requirements for end platforms cover other cars beyond 49 CFR 231.24(b)(3). UP respectfully restates the waiver request to grant relief from the provisions of 49 CFR 231 Safety Appliance Standards with reference to end platforms be not more than eight inches above the car center sill.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by June 27, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC, on May 9, 2011.
Robert C. Lauby,
Deputy Associate Administrator for Regulatory & Legislative Operations.

[FR Doc. 2011-11774 Filed 5-12-11; 8:45 am]

BILLING CODE 4910-06-P